DEPARTMENT OF HEALTH AND HUMAN SERVICES

Centers for Medicare & Medicaid Services

[Document Identifiers: CMS-10329, CMS-10422, CMS-10532 and CMS-10394]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by November 4, 2014.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10329 Consumer Operated and Oriented (CO-OP) Program

CMS-10422 Payments for Services Furnished by Certain Primary Care Providers and Supporting Regulations in 42 CFR 438.804, 447.400, and 447.410

CMS-10532 Risk Corridors Transitional Policy

CMS-10394 Application to Be a Qualified Entity to Receive Medicare Data for Performance Measurement

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved information collection; Title of Information Collection: Consumer Operated and Oriented (CO-OP) Program; Use: The Consumer Operated and Oriented Plan (CO-OP) program was established by Section 1322 of the Affordable Care Act. This program provides for loans to establish at least one consumer-operated, qualified nonprofit health insurance issuer in each State. Issuers supported by the CO-OP program will offer at least one qualified health plan at the silver level of benefits and one at the gold level of benefits in the individual market State Health Benefit Exchanges (Exchanges). At least two-thirds of policies or contracts offered by a CO-OP will be open to individuals and small employers. Profits generated by the nonprofit CO-OPs will be used to lower premiums, improve benefits, improve the quality of health care delivered to their members, expand enrollment, or otherwise contribute to the stability of coverage offered by the CO-OP. By increasing competition in the health insurance market and operating with a strong consumer focus, the CO-OP program will provide consumers more choices, greater plan accountability, increased competition to lower prices, and better models of care, benefiting all consumers, not just CO-OP members.

The CO-OP program will provide nonprofits with loans to fund start-up costs and State reserve requirements, in the form of Start-up Loans and Solvency Loans. An applicant may apply for (1) joint Start-up and Solvency Loans; or (3) only a Solvency Loan. Planning Loans are intended to help loan recipients determine the feasibility of operating a CO-OP in a target market. Start-up Loans are intended to assist loan recipients with the many start-up costs associated with establishing a new health insurance issuer. Solvency Loans are intended to assist loan recipients with meeting the solvency requirements of States in which the applicant seeks to be licensed to issue qualified health plans. Form Number: CMS-10392 (OMB control number: 0938-1139); Frequency: Occasionally; Affected Public: Private sector—Not-for-profit institutions; Number of Respondents: 23; Total Annual Responses: 583; Total Annual Hours: 11,621. (For policy questions regarding this collection contact Deepti Loharikar (301-492-4126).

2. Type of Information Collection Request: Revision of a currently approved collection; Title of Information Collection: Payments for Services Furnished by Certain Primary Care Providers and Supporting Regulations in 42 CFR 438.804, 447.400, and 447.410; Use: The information will be used to document expenditures for the specified primary care services in the baseline period for the purpose of then calculating the expenditure eligible for 100 federal matching funds in calendar years 2015 and 2016, should Congress extend the availability of such funding and make no additional changes in statutory language necessitating programmatic alterations. Form Number: CMS-10422 (OMB control number: 0938-1170); Frequency: Yearly, once, and occasionally; Affected Public: State, Local, or Tribal Governments; Number of Respondents: 51; Total Annual Responses: 126,021; Total Annual Hours: 63,240. (For policy questions regarding this collection contact Linda Tavener at 410-786-3838).

3. Type of Information Collection Request: New collection (Request for a new OMB Control Number); Title of Information Collection: Risk Corridors Transitional Policy; Use: Section 1342 of the Patient Protection and Affordable Care Act of 2010 (the Affordable Care Act) provides for the establishment of a temporary risk corridors program that will apply to qualified health plans in the individual and small group markets for the first three years of Exchange operation. The implementing regulations for this provision are located in Part 153 Title 45 of the Code of Federal Regulations. A final rule was published on March 11, 2014 (79 FR 13834, CMS-9954-F) and is effective May 12, 2014. Under 45 CFR 153.530(e), each issuer conducting business in the individual and small group markets in states that adopted the transitional policy is required to submit enrollment data, including enrollment in transitional policies (i.e. individual or small group health insurance coverage in states that adopted the transitional policy announced in the Centers for Medicare and Medicaid (CMS) letter dated November 14, 2013), on the “Transitional Adjustment Reporting Form” prescribed by CMS, for each state in which the issuer conducts business.

We will use the data collection to amend the risk corridors program provisions in 45 CFR Part 153 to mitigate any unexpected losses for issuers of plans subject to risk corridors that are attributable to the effects of this transitional policy. Specifically, we will use the data to calculate the risk corridors adjustment percentage, if any, in transitional states. Form Number: CMS-10532 (OMB control number: 0938—New); Frequency: Once; Affected Public: Private Sector, Business or other for-profits and not-for-profit institutions; Number of Respondents: 400; Total Annual Responses: 400; Total Annual Hours: 400. (For policy questions regarding this collection contact Jaya Ghildiyal at (301) 492-5149).

4. Type of Information Collection Request: Extension of a currently approved collection; Title of Information Collection: Application to Be a Qualified Entity to Receive Medicare Data for Performance Measurement; Use: Section 10332 of the Patient Protection and Affordable Care Act (ACA) requires the Secretary to make standardized extracts of Medicare claims data under Parts A, B, and D available to “qualified entities” for the evaluation of the performance of providers of services and suppliers. The statute provides the Secretary with discretion to establish criteria to determine whether an entity is qualified to use claims data to evaluate the performance of providers of services and suppliers. We are proposing at section 42 CFR 401.703 to evaluate an organization's eligibility across three areas: Organizational and governance capabilities, addition of claims data from other sources (as required in the statute), and data privacy and security. This is the application through which organizations will provide information to CMS to determine whether they will be approved as a qualified entity. Form Number: CMS-10394 (OMB control number: 0938-1144); Frequency: Occasionally; Affected Public: Private sector—Business or other for-profits and Not-for-profit institutions; Number of Respondents: 35; Total Annual Responses: 35; Total Annual Hours: 6,833. (For policy questions regarding this collection contact Kari Gaare at 410-786-8612).

Dated: September 2, 2014.
Martique Jones,
Director, Regulations Development Group, Office of Strategic Operations and Regulatory Affairs.

[FR Doc. 2014-21180 Filed 9-4-14; 8:45 am]

BILLING CODE 4120-01-P